FEDERAL COMMUNICATIONS COMMISSION

47 CFR Part 54

[WC Docket No. 21-93; DA 21-881; FR ID 40821]

Wireline Competition Bureau Sets Service Delivery Date for Emergency Connectivity Fund Program Initial Application Filing Window and Modifies Funding Application Certification Language

AGENCY: Federal Communications Commission.

ACTION: Final rule.

SUMMARY: In this document, the Wireline Competition Bureau (Bureau) establishes a June 30, 2022, service delivery date for equipment and other non-recurring services funding requests filed during the initial application filing window of the Emergency Connectivity Fund Program, if the equipment or services have not been received at the time the funding request is made. The Bureau also modifies the certification language of the Commission's rules to clarify that applicants may request funding for eligible equipment and services that have not yet been ordered for the upcoming school year (i.e., July 1, 2021 through June 30, 2022).

DATES: Effective August 2, 2021.

FOR FURTHER INFORMATION CONTACT: Johnnay Schrieber, Wireline Competition Bureau, (202) 418-7400 or by email at Johnnay.Schrieber@fcc.gov. The Commission asks that requests for accommodations be made as soon as possible in order to allow the agency to satisfy such requests whenever possible. Send an email to fcc504@fcc.gov or call the Consumer and Governmental Affairs Bureau at (202) 418-0530.

SUPPLEMENTARY INFORMATION: This is a synopsis of the Commission's Public Notice in WC Docket No. 21-93; DA 21-881, released July 22,2021. Due to the COVID-19 pandemic, the Commission's headquarters will be closed to the general public until further notice. The full text of this document is available at the following internet address: https://www.fcc.gov/edocs/search-results?t=quick&fccdaNo=21-881.

SYNOPSIS

1. By this Public Notice, the Wireline Competition Bureau (Bureau) establishes a June 30, 2022 service delivery date for equipment and other non-recurring services funding requests filed during the initial application filing window of the Emergency Connectivity Fund Program, if the equipment or services have not been received at the time the funding request is made. The Bureau also modifies the certification language for § 54.1710(a)(1)(x) of the Commission's rules to clarify that applicants may request funding for eligible equipment and services that have not yet been ordered for the upcoming school year (i.e., July 1, 2021 through June 30, 2022).

2. As part of the American Rescue Plan Act of 2021, Congress appropriated $7.171 billion to the Federal Communications Commission (Commission) to promulgate rules providing for the distribution of funding from the Emergency Connectivity Fund to eligible schools and libraries for the purchase of eligible equipment and/or advanced telecommunications and information services for use by students, school staff, and library patrons at locations that include locations other than a school or library. On May 10, 2021, the Commission issued a Report and Order, 86 FR 29136, May 28, 2021, establishing the Emergency Connectivity Fund Program to administer the $7.171 billion in congressionally appropriated funding. The Commission and the Universal Service Administrative Company (USAC) opened a 45-day Emergency Connectivity Fund application filing window on June 29, 2021, which will close on August 13, 2021. During this initial filing window, applicants may request funding for eligible equipment and services that will be received or delivered between July 1, 2021, and June 30, 2022.

3. Service Delivery Date. The Commission established an invoice filing deadline rule for the Emergency Connectivity Fund Program in the Report and Order. Section 54.1711(d) provides that “[i]nvoices must be submitted to the Administrator within 60 days from the date of the funding commitment decision letter; a revised funding commitment decision letter approving a post-commitment change or a successful appeal of previously denied or reduced funding; or service delivery date, whichever is later.” However, for non-recurring services or equipment to be funded through the initial window of the Emergency Connectivity Fund Program, the service delivery date may not be known at the time the applicant submits the funding request. In order to streamline and simplify the application and invoicing processes, and pursuant to the Bureau's authority to provide additional detail and specificity to the requirements of the Emergency Connectivity Fund Program in consultation with the Office of the Managing Director, and for purposes of establishing the deadline for the submission of invoices, the Bureau establishes June 30, 2022, as the service delivery date for equipment and other non-recurring services funding requests if the equipment or services have not been ordered or received when the applicant submits the funding request. As such, applicants may use June 30, 2022, as the “service end date” in the funding request where indicated in the Emergency Connectivity Fund Program application portal, and the invoicing deadline for these non-recurring services and equipment will be 60 days from the date of the funding commitment decision letter; a revised funding commitment decision letter approving a post-commitment change or a successful appeal of previously denied or reduced funding; or August 29, 2022 (i.e., 60 days after June 30, 2022), whichever is later. Adopting a uniform service delivery date for equipment and other non-recurring services will provide certainty for these applicants and allow USAC to provide an invoice filing deadline to applicants at the time it provides the funding commitment letter.

4. Clarification to Section 54.1710(a)(1)(x). In the Report and Order, the Commission adopted, and codified at § 54.1710(a)(1), the certifications that applicants must include on their funding applications. Section 54.1710(a)(1)(x) requires applicants to certify that “[t]he applicant or the relevant student, school staff member, or library patron has received, or the applicant has ordered the equipment and services for which funding is sought.” As explained above, the current Emergency Connectivity Fund Program application filing window is for prospective purchases of eligible equipment and services made between July 1, 2021, and June 30, 2022. Therefore, it is possible that applicants may not have ordered the requested equipment and services at the time they are submitting their applications for funding through the Emergency Connectivity Fund Program. To address this circumstance, the Bureau modifies § 54.1710(a)(1)(x) to require applicants to certify that: “[t]he applicant or the relevant student, school staff member, or library patron has received, or the applicant has ordered or will order, the equipment and services for which funding is sought.” This clarification conforms the certification to the requirement set forth in the Report and Order that eligible equipment and services funded through the initial application filing window must be provided or delivered between July 1, 2021, and June 30, 2022, and permits the certification required by the applicant or service provider at the invoicing stage that the equipment and services have been received or ordered.

5. These two procedural rule changes for the Emergency Connectivity Fund Program, and the updated rules will become effective upon publication in the Federal Register.

6. Additional Information. For more information about the Emergency Connectivity Fund Program, please refer to the Commission's website at https://www.fcc.gov/emergency-connectivity-fund.

List of Subjects in 47 CFR Part 54

Communications common carriers, internet, Libraries, Reporting and recordkeeping requirements, Schools, Telecommunications

Federal Communications Commission
Cheryl Callahan,
Assistant Chief, Telecommunications Access Policy Division, Wireline Competition Bureau.

Final Rules

For the reasons set forth above, part 54 of title 47 of the Code of Federal Regulations is amended as follows:

PART 54—UNIVERSAL SERVICE

1. The authority for part 54 continues to read as follows:

Authority: 47 U.S.C. 151, 154(i), 155, 201, 205, 214, 219, 220, 229, 254, 303(r), 403, 1004, 1302, and 1601-1609, unless otherwise noted.

2. Amend § 54.1710 by revising paragraph (a)(1)(x) to read as follows:

§ 54.1710 Emergency Connectivity Fund requests for funding.

(a) * * *

(1) * * *

(x) The applicant or the relevant student, school staff member, or library patron has received, or the applicant has ordered or will order, the equipment and services for which funding is sought.

* * * * *

3. Amend § 54.1711 by adding paragraph (e) to read as follows:

§ 54.1711 Emergency Connectivity Fund requests for reimbursement.

* * * * *

(e) Service delivery date. For the initial filing window set forth in § 54.1708(b), the service delivery date for equipment and other non-recurring services if the equipment or services have not been received or ordered when the applicant submits the request for funding is June 30, 2022.

[FR Doc. 2021-16361 Filed 7-30-21; 8:45 am]

BILLING CODE 6712-01-P